DEPARTMENT OF TRANSPORTATION

Federal Aviation Administration

14 CFR Part 39

[Docket No. FAA-2012-0720; Directorate Identifier 2012-NM-059-AD; Amendment 39-17360; AD 2013-04-03]

RIN 2120-AA64

Airworthiness Directives; Cessna Aircraft Company Airplanes

AGENCY: Federal Aviation Administration (FAA), DOT.

ACTION: Final rule.

SUMMARY: We are adopting a new airworthiness directive (AD) for certain Cessna Aircraft Company Model 750 airplanes. This AD was prompted by reports of loss of displayed airspeed. This AD requires inspecting certain logic modules to determine if certain cabin altitude/pitot static heater module assemblies are installed and replacing those assemblies with a new assembly; and revising the Non-Normal Procedures Section of the airplane flight manual (AFM) to include procedures for resetting the pitot switch in the event of pitot heater failure and for total loss of airspeed indication. We are issuing this AD to prevent the loss of all displayed airspeed, which could result in reduced ability to control the airplane.

DATES: This AD is effective April 11, 2013.

The Director of the Federal Register approved the incorporation by reference of certain publication listed in the AD as of April 11, 2013.

ADDRESSES: For service information identified in this AD, contact Cessna Aircraft Co., P.O. Box 7706, Wichita, Kansas 67277; telephone 316-517-6215; fax 316-517-5802; email citationpubs@cessna.textron.com; Internet https://www.cessnasupport.com/newlogin.html. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Christine Abraham, Aerospace Engineer, Electrical Systems and Avionics Branch, ACE-119W, FAA, Wichita Aircraft Certification Office (ACO), 1801 Airport Road, Room 100, Mid-Continent Airport, Wichita, Kansas 67209; phone: 316-946-4165; fax: 316-946-4107; email: Christine.Abraham@faa.gov.

SUPPLEMENTARY INFORMATION:

Discussion

We issued a notice of proposed rulemaking (NPRM) to amend 14 CFR part 39 to include an AD that would apply to the specified products. That NPRM published in the Federal Register on July 17, 2012 (77 FR 41937). That NPRM proposed to require inspecting certain logic modules to determine if certain cabin altitude/pitot static heater module assemblies are installed and replacing those assemblies with a new assembly; and revising the Non-Normal Procedures Section of the AFM to include procedures for resetting the pitot switch in the event of pitot heater failure and for total loss of airspeed indication.

Comments

We gave the public the opportunity to participate in developing this AD. The following presents the comments received on the proposal (77 FR 41937, July 17, 2012) and the FAA's response to each comment.

Request To Change Compliance Time

Cessna Aircraft Company (Cessna) requested that the NPRM (77 FR 41937, July 17, 2012) use the compliance time described in Cessna Service Letter SL750-30-08, Revision 1, dated July 11, 2011, of within two years or 1,200 flight hours after July 11, 2011 (The issue date of Cessna Service Letter SL750-30-08, Revision 1), whichever occurs first. Cessna noted that the proposed NPRM compliance time is within 600 flight hours or one year after the effective date of the AD, whichever occurs first. Cessna stated that the NPRM compliance time will extend the compliance time beyond what is suggested by Cessna Service Letter SL750-30-08, Revision 1, dated July 11, 2011.

We disagree with the request to change the compliance time. We coordinated with Cessna regarding the compliance time difference prior to issuing the NPRM (77 FR 41937, July 17, 2012). We have determined that a compliance time of within 600 flight hours or one year after the effective date of the AD (whichever occurs first) is an appropriate compliance time to adequately address the identified unsafe condition. If additional data are presented to justify a shorter compliance time, we might consider further rulemaking. We have not changed the AD in this regard.

Request To Change Logic Module Designators

Cessna requested that we change the reference designators to the logic modules in paragraph (g) of the NPRM (77 FR 41937, July 17, 2012). Cessna stated that NC006 and NC007 are the correct reference designators for the logic modules.

We agree to change the references because we have determined that the commenter's stated references are correct. We have changed paragraph (g) of this AD to refer to the logic modules as NC006 and NC007.

Conclusion

We reviewed the relevant data, considered the comments received, and determined that air safety and the public interest require adopting the AD with the change described previously and minor editorial changes. We have determined that these minor changes:

• Are consistent with the intent that was proposed in the NPRM (77 FR 41937, July 17, 2012) for correcting the unsafe condition; and

• Do not add any additional burden upon the public than was already proposed in the NPRM (77 FR 41937, July 17, 2012).

We also determined that these changes will not increase the economic burden on any operator or increase the scope of the AD.

Costs of Compliance

We estimate that this AD affects 210 airplanes of U.S. registry.

We estimate the following costs to comply with this AD:

Estimated Costs
Action | Labor cost | Parts cost | Cost per product | Cost on U.S. operators
Inspection | 2 work-hours × $85 per hour = $170 | $0 | $170 | $35,700
Revision | 1 work-hour × $85 per hour = $85 | 0 | 85 | 17,850

We estimate the following costs to do any necessary replacements that would be required based on the results of the inspection. We have no way of determining the number of aircraft that might need these replacements:

On-Condition Costs
Action | Labor cost | Parts cost | Cost per product
Replacement | 1 work-hour × $85 per hour = $85 | $4,058 | $4,143

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-04-03 Cessna Aircraft Company: Amendment 39-17360; Docket No. FAA-2012-0720; Directorate Identifier 2012-NM-059-AD.

(a) Effective Date

This AD is effective April 11, 2013.

(b) Affected ADs

None.

(c) Applicability

This AD applies to The Cessna Aircraft Company Model 750 airplanes, certificated in any category, serial numbers 0001 through 0245 inclusive.

(d) Subject

Joint Aircraft System Component (JASC)/Air Transport Association (ATA) of America Code 3030, Pitot/Static Anti-Ice System.

(e) Unsafe Condition

This AD was prompted by reports of loss of displayed airspeed. We are issuing this AD to prevent the loss of all displayed airspeed, which could result in reduced ability to control the airplane.

(f) Compliance

Comply with this AD within the compliance times specified, unless already done.

(g) Inspection and Replacement

Within 600 flight hours or one year after the effective date of this AD, whichever occurs first: Do an inspection of logic modules NC006 and NC007 to determine if any cabin altitude/pitot static heater module assemblies having part number (P/N) 6718477-9, P/N 6718477-10, or P/N 9914731-1 are installed, in accordance with the Accomplishment Instructions of Cessna Service Letter SL750-30-08, Revision 1, dated July 11, 2011. If any altitude/pitot static heater module assembly having P/N 6718477-9, P/N 6718477-10, or P/N 9914731-1 is installed: Before further flight, replace that assembly with a new assembly having P/N 6718477-11, in accordance with the Accomplishment Instructions of Cessna Service Letter SL750-30-08, Revision 1, dated July 11, 2011.

(h) Airplane Flight Manual (AFM) Revision

Concurrently with the actions required by paragraph (g) of this AD: Revise the Non-Normal Procedures Section of the Cessna 750 AFM to include the information in the flight manual changes identified in paragraphs (h)(1), (h)(2), (h)(3), (h)(4), (h)(5), and (h)(6) of this AD. This may be done by inserting copies of these flight manual changes into the Cessna 750 AFM. When these flight manual changes have been included in general revisions of the AFM, the general revisions may be inserted in the AFM, provided the relevant information in the general revision is identical to that in these flight manual changes, and then these temporary flight manual changes may be removed.

(1) Cessna Temporary FAA Approved Airplane Flight Manual Change 75FM TC-R11-23, approved June 26, 2012.

(2) Cessna Temporary FAA Approved Airplane Flight Manual Change 75FM TC-R11-24, approved June 26, 2012.

(3) Cessna Temporary FAA Approved Airplane Flight Manual Change 75FM TC-R11-25, approved June 26, 2012.

(4) Cessna Temporary FAA Approved Airplane Flight Manual Change 75FM TC-R11-26, approved June 26, 2012.

(5) Cessna Temporary FAA Approved Airplane Flight Manual Change 75FMA TC-R02-03, approved April 10, 2012.

(6) Cessna Temporary FAA Approved Airplane Flight Manual Change 75FMA TC-R02-07, approved June 26, 2012.

(i) Parts Installation Prohibition

As of the effective date of this AD, no person may install an altitude/pitot static heater module assembly having P/N 6718477-9, P/N 6718477-10, or P/N 9914731-1, on any airplane.

(j) Special Flight Permit

Special flight permits may be issued in accordance with sections 21.197 and 21.199 of the Federal Aviation Regulations (14 CFR 21.197 and 21.199) to operate the airplane to a location where the airplane can be modified (if the operator elects to do so), provided the actions required by paragraph (h) of this AD have been accomplished.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

For more information about this AD, contact Christine Abraham, Aerospace Engineer, Electrical Systems and Avionics Branch, ACE-119W, FAA, Wichita Aircraft Certification Office (ACO), 1801 Airport Road, Room 100, Mid-Continent Airport, Wichita, Kansas 67209; phone: 316-946-4165; fax: 316-946-4107; email: Christine.Abraham@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Cessna Service Letter SL750-30-08, Revision 1, dated July 11, 2011.

(ii) Cessna Temporary FAA Approved Airplane Flight Manual Change 75FM TC-R11-23, approved June 26, 2012.

(iii) Cessna Temporary FAA Approved Airplane Flight Manual Change 75FM TC-R11-24, approved June 26, 2012.

(iv) Cessna Temporary FAA Approved Airplane Flight Manual Change 75FM TC-R11-25, approved June 26, 2012.

(v) Cessna Temporary FAA Approved Airplane Flight Manual Change 75FM TC-R11-26, approved June 26, 2012.

(vi) Cessna Temporary FAA Approved Airplane Flight Manual Change 75FMA TC-R02-03, approved April 10, 2012.

(vii) Cessna Temporary FAA Approved Airplane Flight Manual Change 75FMA TC-R02-07, approved June 26, 2012.

(3) For Cessna service information identified in this AD, contact Cessna Aircraft Co., P.O. Box 7706, Wichita, Kansas 67277; telephone 316-517-6215; fax 316-517-5802; email citationpubs@cessna.textron.com; Internet https://www.cessnasupport.com/newlogin.html.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 8, 2013.
Ali Bahrami,
Manager,
Transport Airplane Directorate, Aircraft Certification Service.

[FR Doc. 2013-04901 Filed 3-6-13; 8:45 am]

BILLING CODE 4910-13-P